NUCLEAR REGULATORY COMMISSION

[Docket No. 40-8907; NRC-2014-0096]

United Nuclear Corporation

AGENCY: Nuclear Regulatory Commission.

ACTION: License amendment application; request for comment.

SUMMARY: The U.S. Nuclear Regulatory Commission (NRC) is seeking comment from interested parties on the license amendment application request from United Nuclear Corporation (UNC or the licensee), a subsidiary of General Electric (GE), for a 5-year extension for the final emplacement of the radon barrier and erosion protection for the UNC Church Rock Mill site located in McKinley County, New Mexico. Specifically, UNC is requesting an amendment to Source Material License No. SUA-1475, for License Conditions 35.A(3) and 35.B(1), which would extend the dates for emplacement of the final radon barrier and the erosion protection from December 31, 2014, to December 31, 2019.

DATES: Submit comments by May 30, 2014. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2014-0096. Address questions about NRC dockets to Carol Gallagher; telephone: 301-287-3422; email: Carol.Gallagher@nrc.gov. For technical questions, contact the individual(s) listed in the FOR FURTHER INFORMATION CONTACT section of this document.

• Mail comments to: Cindy Bladey, Chief, Rules, Announcements, and Directives Branch (RADB), Office of Administration, Mail Stop: 3WFN-06-44M, U.S. Nuclear Regulatory Commission, Washington, DC 20555-0001.

• For additional direction on accessing information and submitting comments, see “Accessing Information and Submitting Comments” in the SUPPLEMENTARY INFORMATION section of this document.

FOR FURTHER INFORMATION CONTACT: Yolande Norman, Office of Federal and State Materials and Environmental Management Programs, U.S. Nuclear Regulatory Commission, Washington, DC 20555-0001, telephone: 301-415-7741; email: Yolande.Norman@nrc.gov.

SUPPLEMENTARY INFORMATION:

I. Accessing Information and Submitting Comments

A. Accessing Information

Please refer to Docket ID NRC-2014-0096 when contacting the NRC about the availability of information regarding this document. You may access publicly-available information related to this document by any of the following methods:

• Federal Rulemaking Web site: Go to http://www.regulations.gov and search for Docket ID NRC-2014-0096.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2014-0096 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Introduction and Solicitation of Comments

The NRC has received, by letter dated September 18, 2013, an application to amend Source Materials License No. SUA-1475 (the UNC license) for the UNC Church Rock Mill site located in New Mexico (ADAMS Accession Nos. ML13277A287, ML13266A361). Specifically, UNC, a subsidiary of General Electric (GE), requested to extend the projected dates for (1) the completion of groundwater corrective actions, and (2) the emplacement of the final radon barrier and erosion protection for the UNC Church Rock Mill Site. On November 7, 2013, the NRC issued License Amendment No. 48, subsequently corrected by License Amendment No. 49 (ADAMS Accession Nos. ML13277A287 and ML14043A475), granting the licensee's request regarding its groundwater corrective actions. However, prior to making a final determination on the UNC's second request to extend the date for emplacing the final radon barrier and the erosion protection, the NRC is providing an opportunity for public participation required under Criterion 6A(2) of Appendix A to Title 10 of the Code of Federal Regulations Part 40, through the provision of this opportunity to provide comments. Specific comments are requested on the requested changes to License Conditions 35.A(3) and 35.B(1), which would extend the date for emplacement of the final radon barrier and the erosion protection from December 31, 2014 to December 31, 2019. Comments should be provided within 30 days of the publication date of this notice.

Dated at Rockville, Maryland this 17th day of April 2014.
For the Nuclear Regulatory Commission.
Andrew Persinko,
Deputy Director, Decommissioning and Uranium Recovery Licensing Directorate, Division of Waste Management and Environmental Protection, Office of Federal and State Materials and Environmental Management Programs.

[FR Doc. 2014-09735 Filed 4-29-14; 8:45 am]

BILLING CODE 7590-01-P